FEDERAL ENERGY REGULATORY COMMISSION

Sunshine Act; Meeting

September 8, 2004.

The following notice of meeting is published pursuant to section 3(a) of the Government in the Sunshine Act (Pub. L. 94-409), 5 U.S.C. 552b:

AGENCY HOLDING MEETING: Federal Energy Regulatory Commission, DOE.

DATE AND TIME: September 15, 2004, 10 a.m.

PLACE: Room 2C, 888 First Street, NE., Washington, DC 20426.

STATUS: Open.

MATTERS TO BE CONSIDERED: Agenda.

*Note—Items listed on the Agenda may be deleted without further notice.

CONTACT PERSON FOR MORE INFORMATION: Magalie R. Salas, Secretary, Telephone (202) 502-8400. For a recording listing items stricken from or added to the meeting, call (202) 502-8627.

This is a list of matters to be considered by the commission. It does not include a listing of all papers relevant to the items on the Agenda; however, all public documents may be examined in the Reference and Information Center.

868th Meeting—September 15, 2004—Regular Meeting, 10 A.M.

Administrative Agenda

A-1.

DOCKET# AD02-1, 000, AGENCY ADMINISTRATIVE MATTERS

A-2.

DOCKET# AD02-7, 000, CUSTOMER MATTERS, RELIABILITY, SECURITY AND MARKET OPERATIONS

A-3.

DOCKET# AD04-11, 000, STAFF REPORT ON NATURAL GAS STORAGE

A-4.

DOCKET# AD04-12, 000, COST RANGES FOR THE DEVELOPMENT AND OPERATION OF A “DAY ONE” RTO

Markets, Tariffs and Rates—Electric

E-1.

DOCKET# ER02-1656, 017, CALIFORNIA INDEPENDENT SYSTEM OPERATOR CORPORATION

OTHER#S ER02-1656, 018, CALIFORNIA INDEPENDENT SYSTEM OPERATOR CORPORATION

OTHER#S ER02-1656, 019, CALIFORNIA INDEPENDENT SYSTEM OPERATOR CORPORATION

E-2.

DOCKET# ER04-925, 001, MERRILL LYNCH COMMODITIES, INC.

E-3.

DOCKET# ER04-691, 000, MIDWEST INDEPENDENT TRANSMISSION SYSTEM OPERATOR, INC.

OTHER#S ER04-106, 002, MIDWEST INDEPENDENT TRANSMISSION SYSTEM OPERATOR, INC.

OTHER#S ER04-104, 000, PUBLIC UTILITIES WITH GRANDFATHERED AGREEMENTS IN THE MIDWEST ISO REGION

E-4.

DOCKET# ER04-829, 000, PJM INTERCONNECTION, LLC AND VIRGINIA ELECTRIC AND POWER COMPANY

OTHER#S ER04-829, 001, PJM INTERCONNECTION, LLC AND VIRGINIA ELECTRIC AND POWER COMPANY

E-5.

DOCKET# ER04-834, 000, VIRGINIA ELECTRIC AND POWER COMPANY

E-6.

DOCKET# RM04-12, 000, FINANCIAL REPORT AND COST ACCOUNTING, OVERSIGHT AND RECOVERY PRACTICES FOR REGIONAL TRANSMISSION ORGANIZATIONS AND INDEPENDENT SYSTEM OPERATORS

E-7.

OMITTED

E-8.

OMITTED

E-9.

OMITTED

E-10.

DOCKET# RT04-1, 001, SOUTHWEST POWER POOL, INC.

OTHER#S ER04-48, 001, SOUTHWEST POWER POOL, INC.

E-11.

DOCKET# ER04-1077, 000, PJM INTERCONNECTION, LLC

E-12.

DOCKET# ER04-1033, 000, WABASH VALLEY POWER ASSOCIATION, INC.

OTHER#S ER04-789, 000, WABASH VALLEY POWER ASSOCIATION, INC.

OTHER#S ER04-802, 000, WABASH VALLEY POWER ASSOCIATION, INC.

E-13.

DOCKET# ER04-1034, 000, FLORIDA POWER & LIGHT COMPANY

E-14.

OMITTED

E-15.

DOCKET# ER04-1055, 000, RIVERSIDE ENERGY CENTER, LLC

E-16.

DOCKET# ER04-1059, 000, ROCKGEN ENERGY, LLC

E-17.

DOCKET# ER04-886, 000, ENTERGY SERVICES, INC.

E-18.

DOCKET# ER04-1064, 000, NEW ENGLAND POWER POOL

E-19.

DOCKET# ER04-1091, 000, ILLINOIS POWER COMPANY

E-20.

OMITTED

E-21.

OMITTED

E-22.

DOCKET# ER00-1, 004, CROSS-SOUND CABLE COMPANY,LLC

E-23.

DOCKET# ER02-2595, 000, MIDWEST INDEPENDENT TRANSMISSION SYSTEM OPERATOR, INC.

OTHER#S ER02-2595, 003, MIDWEST INDEPENDENT TRANSMISSION SYSTEM OPERATOR, INC.

E-24

DOCKET# ER03-599, 000, ENTERGY SERVICES, INC.

OTHER#S ER03-599, 001, ENTERGY SERVICES, INC.

OTHER#S ER03-599, 002, ENTERGY SERVICES, INC.

OTHER#S ER03-599, 003, ENTERGY SERVICES, INC.

E-25.

DOCKET# NJ04-4, 000, ORLANDO UTILITIES COMMISSION

E-26.

DOCKET# ER03-647, 004, NEW YORK INDEPENDENT SYSTEM OPERATOR, INC.

E-27.

OMITTED

E-28.

DOCKET# ER98-997, 003, CALIFORNIA INDEPENDENT SYSTEM OPERATOR CORPORATION

OTHER#S ER98-1309, 002, CALIFORNIA INDEPENDENT SYSTEM OPERATOR CORPORATION

OTHER#S ER02-2297, 002, CALIFORNIA INDEPENDENT SYSTEM OPERATOR CORPORATION

OTHER#S ER02-2298, 002, CALIFORNIA INDEPENDENT SYSTEM OPERATOR CORPORATION

E-29.

DOCKET# RT04-1, 004, SOUTHWEST POWER POOL, INC.

OTHER#S ER04-48, 004, SOUTHWEST POWER POOL, INC.

E-30.

DOCKET# QF95-328, 006, ECOELéCTRICA, L.P.

E-31.

OMITTED

E-32.

OMITTED

E-33.

DOCKET# TS04-261, 000, ALCOA POWER GENERATING INC.

OTHER#S TS04-255, 000, CROSS SOUND CABLE COMPANY, LLC

OTHER#S TS04-242, 000, DAUGHIN ISLAND GATHERING PARTNERS

OTHER#S TS04-6, 000, DISTRIGAS OF MASSACHUSETTS LLC

OTHER#S TS04-236, 000, DISTRIGAS OF MASSACHUSETTS LLC

OTHER#S TS04-267, 000, EL PASO CORPORATION

OTHER#S TS04-150, 000, GRANITE STATE GAS TRANSMISSION CO.

OTHER#S TS04-262, 000, HIGH ISLAND OFFSHORE SYSTEM, LLC

OTHER#S TS04-249, 000, KINDER MORGAN PIPELINES

OTHER#S TS04-271, 000, KINDER MORGAN PIPELINES

OTHER#S TS04-272, 000, KINDER MORGAN PIPELINES

OTHER#S OA04-1, 000, LINCOLN ELECTRIC SYSTEM

OTHER#S TS04-209, 000, MIDWESTERN GAS TRANSMISSION CO.

OTHER#S TS04-208, 000, NORTHERN BORDER PIPELINE COMPANY

OTHER#S TS04-248, 000, NATIONAL FUEL GAS SUPPLY CORPORATION

OTHER#S TS04-3, 000, NORTHWESTERN ENERGY

OTHER#S TS04-3, 001, NORTHWESTERN ENERGY

OTHER#S TS04-252, 000, OHIO VALLEY ELECTRIC CORPORATION AND INDIANA-KENTUCKY ELECTRIC CORPORATION

OTHER#S TS04-184, 000, PANTHER INTERSTATE PIPELINE ENERGY, LLC

OTHER#S TS04-263, 000, PETAL GAS STORAGE, L.L.C.

OTHER#S TS04-231, 000, QUESTAR PIPELINE COMPANY, OVERTHRUST PIPELINE COMPANY, AND QUESTAR SOUTHERN TRAILS PIPELINE COMPANY

OTHER#S TS04-71, 000, PPL ELECTRIC UTILITIES

OTHER#S TS04-152, 000, SALTVILLE GAS STORAGE COMPANY LLC

OTHER#S TS04-273, 000, SHELL OFFSHORE INC. AND SHELL GULF OF MEXICO

OTHER#S TS04-274, 000, SHELL GAS TRANSMISSION, LLC

OTHER#S TS04-222, 000, SOUTHWEST GAS TRANSMISSION COMPANY

OTHER#S TS04-253, 000, TEXAS GAS TRANSMISSION LLC

OTHER#S TS04-212, 000, VIKING GAS TRANSMISSION CO.

OTHER#S TS04-260, 000, WILLISTON BASIN INTERSTATE PIPELINE CO.

E-34.

OMITTED

E-35.

DOCKET# EL04-90, 000, NEVADA POWER COMPANY

E-36.

OMITTED

E-37.

DOCKET# ER01-2536, 005, NEW YORK INDEPENDENT SYSTEM OPERATOR, INC.

E-38.

DOCKET# EL04-71, 000, EMPIRE DISTRICT ELECTRIC COMPANY

E-39.

DOCKET# PL04-5, 000, POLICY STATEMENT ON MATTERS RELATED TO BULK POWER SYSTEM RELIABILITY

E-40.

OMITTED

E-41.

OMITTED

E-42.

DOCKET# EL99-14, 000, SOUTHWESTERN ELECTRIC COOPERATIVE, INC. V. SOYLAND POWER COOPERATIVE, INC.

OTHERS# EL99-14, 005, SOUTHWESTERN ELECTRIC COOPERATIVE, INC. V. SOYLAND POWER COOPERATIVE, INC.

E-43.

DOCKET# ERO3-1247, 003, NORTHEAST UTILITIES SERVICE COMPANY

E-44.

DOCKET# ER03-31, 005, UNITED ILLUMINATING COMPANY

E-45.

DOCKET# ER03-549, 000, SOUTHERN CALIFORNIA EDISON COMPANY

OTHER#S ER03-549, 001, SOUTHERN CALIFORNIA EDISON COMPANY

OTHER#S ERO3-549, 002, SOUTHERN CALIFORNIA EDISON COMPANY

E-46.

DOCKET# ER04-109, 000, PACIFIC GAS AND ELECTRIC COMPANY

DOCKET# EL04-37, 000, PACIFIC GAS AND ELECTRIC COMPANY

E-47.

DOCKET# ER04-55, 000, MAINE YANKEE ATOMIC POWER COMPANY

E-48.

DOCKET# ER04-653, 002, PJM INTERCONNECTION, LLC

E-49.

DOCKET# EC02-113, 001, CINERGY SERVICES, INC., ON BEHALF OF PSI ENERGY, INC., CINCAP MADISON, LLC AND CINCAP VII, LLC

E-50.

DOCKET# EL03-219, 001, CENTRAL IOWA POWER COOPERATIVE, CLARKE ELECTRIC COOPERATIVE, INC., CONSUMERS ENERGY COOPERATIVE, EAST-CENTRAL IOWA RURAL ELECTRIC COOPERATIVE, EASTERN IOWA LIGHT & POWER COOPERATIVE, FARMERS ELECTRIC COOPERATIVE, INC., GUTHRIE COUNTY RURAL ELECTRIC COOPERATIVE ASSOCIATION, MAQUOKETA VALLEY ELECTRIC COOPERATIVE, MIDLAND POWER COOPERATIVE, PELLA COOPERATIVE ELECTRIC ASSOCIATION, RIDETA ELECTRIC COOPERATIVE INC., SOUTH IOWA MUNICIPAL ELECTRIC COOPERATIVE ASSOCIATION, SOUTHWEST IOWA SERVICE COOPERATIVE, AND T.I.P. RURAL ELECTRIC COOPERATIVE

E-51.

OMITTED

E-52.

DOCKET# EL03-53, 001, GREGORY SWECKER V. MIDLAND POWER COOPERATIVE

E-53.

DOCKET# EL04-51, 001, INTERGEN SERVICES, INC. ON BEHALF OF COTTONWOOD ENERGY COMPANY, LP V. ENTERGY SERVICES, INC. AND ENTERGY GULF STATES, INC.

E-54.

OMITTED

E-55.

DOCKET# ER01-2998, 004, PACIFIC GAS AND ELECTRIC COMPANY

OTHER#S ER02-358, 004, PACIFIC GAS AND ELECTRIC COMPANY

OTHERS#S EL02-64, 004, NORTHERN CALIFORNIA POWER AGENCY V. PACIFIC GAS AND ELECTRIC COMPANY AND THE CALIFORNIA INDEPENDENT SYSTEM OPERATOR CORPORATION

E-56.

DOCKET# ER01-890, 006, BOSTON EDISON COMPANY

OTHER#S ER01-890, 007, BOSTON EDISON COMPANY

OTHER#S ER02-1465, 003, BOSTON EDISON COMPANY

OTHER#S ER02-1465, 004, BOSTON EDISON COMPANY

E-57.

DOCKET# ER02-1333, 001, PJM INTERCONNECTION, LLC

E-58.

DOCKET# ER02-2463, 002, ISO NEW ENGLAND, INC.

OTHER#S ERO2-2463, 003, ISO NEW ENGLAND, INC.

E-59.

DOCKET# ER02-851, 004, SOUTHERN COMPANY SERVICES, INC.

OTHER#S ER02-851, 012, SOUTHERN COMPANY SERVICES, INC.

E-60.

DOCKET# ER04-335, 003, NEW ENGLAND POWER POOL

E-61.

DOCKET# ER04-337, 004, PACIFIC GAS AND ELECTRIC COMPANY

E-62.

DOCKET# ER04-449, 001, AMERICAN ELECTRIC POWER SERVICE CORPORATION

OTHER#S ER04-499, 002, AMERICAN ELECTRIC POWER SERVICE CORPORATION

E-63.

DOCKET# ER04-608, 001, PJM INTERCONNECTION, LLC

E-64.

DOCKET# ER04-714, 001, FLORIDA POWER & LIGHT COMPANY—NEW ENGLAND DIVISION

OTHER#S ER04-157, 006, BANGOR HYDRO-ELECTRIC COMPANY, CENTRAL MAINE POWER COMPANY, NSTAR ELECTRIC & GAS CORPORATION, NEW ENGLAND POWER COMPANY, NORTHEAST UTILITIES SERVICE COMPANY, THE UNITED ILLUMINATING COMPANY, AND VERMONT ELECTRIC POWER COMPANY

E-65.

DOCKET# ER04-742, 001, PJM INTERCONNECTION, LLC

E-66.

DOCKET# QF86-681, 006, ORMESA LLC

E-67.

DOCKET# EL03-152, 000, DUKE ENERGY TRADING AND MARKETING COMPANY

E-68.

DOCKET# ER96-2495, 020, AEP POWER MARKETING, INC.

OTHER#S ER97-4143, 008, AEP SERVICE CORPORATION

OTHER#S ER97-1238, 015, CSW POWER MARKETING, INC.

OTHER#S ER98-2075, 014, CSW ENERGY SERVICES, INC.

OTHER#S ER98-542, 010, CENTRAL AND SOUTH WEST SERVICES, INC.

OTHER#S EL04-131, 000, CENTRAL AND SOUTH WEST SERVICES, INC.

E-69.

DOCKET# ER99-2326, 006, PACIFIC GAS AND ELECTRIC COMPANY

OTHER#S ER99-68, 006, PACIFIC GAS AND ELECTRIC COMPANY

E-70.

DOCKET# EL03-159, 000, MODESTO IRRIGATION DISTRICT

E-71.

DOCKET# ER97-4166, 015, SOUTHERN COMPANY ENERGY MARKETING, INC.

OTHER#S EL04-124, 000, SOUTHERN COMPANY ENERGY MARKETING, INC.

E-72.

DOCKET# ER91-569, 023, ENTERGY SERVICES, INC.

OTHER#S EL04-123, 000, ENTERGY SERVICES, INC.

E-73.

DOCKET# ER04-132, 000, WOLVERINE POWER SUPPLY COOPERATIVE INC

OTHER#S EL04-38, 000, WOLVERINE POWER SUPPLY COOPERATIVE INC.

E-74.

DOCKET# EL02-123, 003, BOSTON EDISON COMPANY

OTHER#S EL02-123, 004, BOSTON EDISON COMPANY

E-75.

DOCKET# ER01-989, 002, GREEN MOUNTAIN POWER CORPORATION

OTHER#S ER01-989, 003, GREEN MOUNTAIN POWER CORPORATION

E-76.

DOCKET# ER04-435, 002, SOUTHERN CALIFORNIA EDISON COMPANY

OTHER#S ER04-435, 004, SOUTHERN CALIFORNIA EDISON COMPANY

Markets, Tariffs and Rates—Gas

G-1.

DOCKET# RP98-18, 015, IROQUOIS GAS TRANSMISSION SYSTEM, L.P.

G-2.

DOCKET# PR04-12, 000, NATIONAL FUEL GAS DISTRIBUTION CORPORATION

G-3.

DOCKET# RP04-269, 000, BLACK MARLIN PIPELINE COMPANY

OTHER#S RP04-269, 001, BLACK MARLIN PIPELINE COMPANY

G-4.

DOCKET# RP02-361, 028, GULFSTREAM NATURAL GAS SYSTEM, L.L.C.

G-5.

DOCKET# RP03-398, 009, NORTHERN NATURAL GAS COMPANY

G-6.

DOCKET# RP04-188, 003, GREAT LAKES GAS TRANSMISSION LIMITED PARTNERSHIP

G-7.

OMITTED

G-8.

OMITTED

G-9.

DOCKET# RP04-217, 000, CALPINE ENERGY SERVICES, LP V. GAS TRANSMISSION NORTHWEST CORPORATION

G-10.

DOCKET# RP04-281, 001, NORTHERN NATURAL GAS COMPANY

Energy Projects—Hydro

H-1.

OMITTED

H-2.

DOCKET# P-2000, 053, NEW YORK POWER AUTHORITY

OTHER#S EL03-224, 003, MASSACHUSETTS MUNICIPAL WHOLESALE ELECTRIC COMPANY V. NEW YORK POWER AUTHORITY

H-3.

DOCKET# P-1971, 090, IDAHO POWER COMPANY

H-4.

DOCKET# P-2612, 015, FPL ENERGY MAINE HYDRO LLC

H-5.

DOCKET# P-77, 121, PACIFIC GAS AND ELECTRIC COMPANY

H-6.

DOCKET# P-2232, 449, DUKE ENERGY CORPORATION

Energy Projects—Certificates

C-1.

DOCKET# CP04-346, 000, CENTERPOINT ENERGY—MISSISSIPPI

C-2.

DOCKET# CP04-64, 000, TRUNKLINE GAS COMPANY, LLC

OTHER#S CP04-60, 004, TRUCKLINE GAS COMPANY, LLC

C-3.

DOCKET# CP04-55, 000, NORTHWEST PIPELINE CORPORATION AND TERASEN SUMAS, INC.

OTHER#S CP04-56, 000, TERASEN SUMAS, INC.

C-4.

OMITTED

C-5.

DOCKET# CP03-75, 001, FREEPORT LNG DEVELOPMENT, L.P.

C-6.

DOCKET# CP02-396, 008, GREENBRIER PIPELINE COMPANY, L.L.C.

C-7.

DOCKET# CP04-121, 001, EL PASO NATURAL GAS COMPANY

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection website at http://www.capitolconnection.gmu.edu and click on “FERC”.

Magalie R. Salas,
Secretary.

[FR Doc. 04-22385 Filed 9-30-04; 8:45 am]

BILLING CODE 6717-01-M